DEPARTMENT OF THE INTERIOR

Bureau of Land Management

[NV-910-03-0777XX]

Notice of Public Meetings of Resource Advisory Councils (RACs) in Nevada: Northeastern Great Basin, Sierra Front—Northwestern Great Basin, and Mojave-Southern Great Basin

AGENCY: Bureau of Land Management, Interior.

ACTION: Notice of Public Meetings of three BLM Nevada RACs to discuss Sustaining Working Landscapes (Nevada).

SUMMARY: In accordance with the Federal Land Policy and Management Act (FLPMA) and the Federal Advisory Committee Act of 1972 (FACA), the U.S. Department of the Interior, Bureau of Land Management (BLM) Nevada Northeastern Great Basin RAC, the Sierra Front—Northwestern Great Basin RAC and the Mojave-Southern Great Basin RAC will meet as indicated below. The topic for discussion at each meeting will be to discuss Sustaining Working Landscapes policy and to consider comments from the public, from the RAC working subgroup and from each RAC.

DATES: The meeting for the Northeastern Great Basin RAC includes a public comment meeting on August 18, 2003, 7 p.m. at the Hilton Garden Inn, 3560 East Idaho Street, Elko, Nevada. The purpose of the public meeting is for the RAC to receive public comment about the Sustaining Working Landscapes policy. The business meeting to discuss policy and develop RAC comments on the Sustaining Working Landscapes policy will be held August 19, 2003 at the BLM Elko Field Office beginning at 9 a.m. The public comment period will begin at approximately 1 p.m. and the meeting will adjourn at approximately 5 p.m. Additional topics to be discussed at this meeting were announced in a notice dated July 8, 2003.

The meeting for the Sierra Front—Northwestern Great Basin RAC will be held on September 3, 2003, in the BLM Carson City Field Office at 5665 Morgan Mill Road, Carson City, Nevada, from 9 a.m. to noon. The purpose of the public meeting is to receive public comment and to discuss policy and develop RAC comments on the Sustaining Working Landscapes policy. The public comment period will begin at 10:30 a.m.

The meeting for the Mojave-Southern Great Basin RAC will be held on September 4, 2003, at Fire Station # 2, 209 W. Brougher, Tonopah, Nevada, at 1 p.m. Public comment will be taken 4 p.m. The purpose of the public meeting is to receive public comment on the Sustaining Working Landscapes policy. The Mojave-Southern RAC will meet on September 5 at the BLM Tonopah Field Station, 1553 S. Main Street, from 8 a.m. to noon to discuss policy and develop RAC comments on the Sustaining Working Landscapes policy. Public comment will occur at 10 a.m.

FOR FURTHER INFORMATION CONTACT: Jo Simpson, Chief, Office of Communications, Nevada State Office, 1340 Financial Boulevard, Reno, NV 89520. Telephone: (775) 861-6586. E-mail: jsimpson@nv.blm.gov

SUPPLEMENTARY INFORMATION: The three 15-member Councils advise the Secretary of the Interior, through the Bureau of Land Management, on a variety of planning and management issues associated with public land management in Nevada.

All meetings are open to the public. The public may present written comments to the Council. Depending on the number of persons wishing to comment and time available, the time for individual oral comments may be limited. Individuals who plan to attend and need special assistance, such as sign language interpretation, or reasonable accommodations, should contact Jo Simpson at (775) 861-6586.

Dated: July 16, 2003.
Robert V. Abbey,
BLM Nevada State Director.

[FR Doc. 03-18680 Filed 7-22-03; 8:45 am]

BILLING CODE 4310-HC-P